DEPARTMENT OF THE INTERIOR

Bureau of Reclamation

Closure Order Establishing Prohibitions at Folsom Lake, CA

AGENCY: Bureau of Reclamation, Interior.

ACTION: Notice of closure.

SUMMARY: The Bureau of Reclamation (Reclamation) is prohibiting lakeside access to the concrete gravity section of Folsom Dam.

DATES: The closure will be effective March 31, 2003, and will remain in effect indefinitely.

ADDRESSES: A map is available for inspection at the Bureau of Reclamation's Central California Area Office, located at 7794 Folsom Dam Road, Folsom, California 95630. The map may be viewed between the hours of 8 a.m. and 4 p.m., Monday through Friday.

FOR FURTHER INFORMATION CONTACT: Bureau of Reclamation, Mid-Pacific Region Public Affairs Office at (916) 978-5100 or the Bureau of Reclamation, Central California Area Office at (916) 988-1707.

SUPPLEMENTARY INFORMATION: This action is being taken under 43 CFR part 423.3 to improve facility security and public safety. Reclamation will be prohibiting lake side access to the concrete structure in an effort to prevent activities that may inadvertently or deliberately cause damage to the structure. The following acts are prohibited within the Folsom Lake closure area:

(a) Operating motorized and/or non-motorized watercraft inside the buoys, which are positioned on the lake and in front of the dam. Exceptions: Operation and Maintenance personnel that have expressed authorization from Reclamation; law enforcement and fire department officers and Reclamation employees acting within the scope of their employment, and any others who have received expressed written authorization from Reclamation to enter the closure areas.

(b) Surface swimming or subsurface diving using any diving mode (Snorkeling, Self Contained Underwater Breathing Apparatus (SCUBA), Surface Supplied Air, Re-breather, etc.). Exceptions: Operation and Maintenance personnel that have expressed authorization from Reclamation; law enforcement and fire department officers and Reclamation employees acting within the scope of their employment, and any others who have received expressed written authorization from Reclamation to enter the closure areas.

(c) Vandalism or destroying, injuring, defacing, or damaging property or real property that is not under one's lawful control or possession.

This order is posted in accordance with 43 CFR 423.3(b). Violation of this prohibition or any prohibition listed in 43 CFR part 423 is punishable by fine, or imprisonment for not more than 6 months, or both.

Dated: March 20, 2003.
Thomas J. Aiken,
Area Manager, Central California Area Office, Mid-Pacific Region.

[FR Doc. 03-9575 Filed 4-17-03; 8:45 am]

BILLING CODE 4310-MN-P